FEDERAL COMMUNICATIONS COMMISSION

47 CFR Part 90

[WT Docket No. 05-62; DA 05-1084]

Amendment of the Commission's Rules to Provide for Flexible Use of the 896-901 MHz and 935-940 MHz Bands Allotted to the Business and Industrial Land Transportation Pool, and Oppositions

ACTION: Proposed rule; extension of comment period.

SUMMARY: In this document, the Wireless Telecommunications Bureau (WTB) of the Federal Communications Commission (Commission) extends the periods for both the comment and reply comment deadlines established in the Notice of Proposed Rulemaking (NPRM) adopted by the Commission in the 900 MHz B/ILT white space proceeding. The deadline to file comments is extended from April 18, 2005, to May 18, 2005, and the deadline to file reply comments is extended from May 2, 2005, to June 2, 2005. This action is taken to enable interested parties sufficient opportunity to review complex issues raised by the NPRM and to provide commenters a reasonable period of time to continue discussions with other interested parties in an effort to reach consensus that would allow a consistent filing position in this matter for most of the 900 MHz user communities.

DATES: The agency must receive comments on or before May 18, 2005; and reply comments on or before June 2, 2005.

ADDRESSES: You may submit comments, identified by WT Docket No. 05-62, by any of the following methods:

• Federal eRulemaking Portal: http://www.regulations.gov. Follow the instructions for submitting comments.

• Federal Communications Commission's Web Site: http://www.fcc.gov/cgb/ecfs/. Follow the instructions for submitting comments.

• E-mail: To receive filing instructions for e-mail comments, commenters should send an e-mail to ecfs@fcc.gov, and should include the following words in the body of the message, “get form <your e-mail address>.” A sample form and directions will be sent in reply. Include the docket number(s) in the subject line of the message.

• Mail: Appropriate addresses for submitting comments and reply comments may be found in the SUPPLEMENTARY INFORMATION section of this document.

• People with Disabilities: Contact the FCC to request reasonable accommodations (accessible format documents, sign language interpreters, CART, etc.) by e-mail: FCC504@fcc.gov or phone: 202-418-0530 or TTY: 202-418-0432.

Instructions: All submissions received must include the agency name and docket number or Regulatory Information Number (RIN) for this rulemaking. All comments received will be posted without change to http://www.fcc.gov/cgb/ecfs/, including any personal information provided.

Docket: For access to the docket to read background documents or comments received, go to http://www.fcc.gov/cgb/ecfs/.

FOR FURTHER INFORMATION CONTACT: Michael Connelly, Wireless Telecommunications Bureau at 202-418-0620, or via the Internet at Michael.Connelly@fcc.gov.

SUPPLEMENTARY INFORMATION: This is a summary of the Federal Communications Commission's Order (Order), DA 05-1084, in WT Docket No. 05-62, (2005 WL 852749 (F.C.C.)), adopted April 14, 2005, and released April 14, 2005, which extends the comment and reply comment filing deadlines in the 900 MHz B/ILT white space proceeding. The full text of this document is available for public inspection and copying during regular business hours at the FCC Reference Information Center, 445 12th St., SW., Room CY-A257, Washington, DC 20554. The complete text may be purchased from the Commission's duplicating contractor: Best Copy & Printing, Inc., 445 12th Street, SW., Room CY-B402, Washington, DC 20554, telephone 800-378-3160, facsimile 202-488-5563, or via e-mail at fcc@bcpiweb.com. The full text may also be downloaded at: http://www.fcc.gov. Alternative formats are available to persons with disabilities by contacting Brian Millin at (202) 418-7426 or TTY (202) 418-7365 or at Brian.Millin@fcc.gov.

Synopsis of the Order

2. On April 14, 2005, the WTB released an Order that extended the comment and reply comment filing deadlines established in the NPRM adopted by the Commission in this proceeding on February 10, 2005 in WT Docket No. 05-62; FCC 05-31, published at 70 FR 13143, March 18, 2005. In the NPRM, the Commission seeks public comment regarding a proposal to auction unused spectrum in the 896-901 MHz and 935-940 MHz Bands presently allotted to the Business and Industrial Land Transportation Pool (“900 MHz B/ILT Pool”), in order to facilitate flexible use. In particular, the Commission proposes to permit any use of the B/ILT channels in the 900 MHz band that is consistent with the band's fixed and mobile allocations. In addition, the Commission proposes to license the remaining spectrum using a geographic area licensing scheme, and to adopt service rules, including licensing, technical and operational rules for the new geographic licensees.

3. On April 4, 2005, the United Telecom Council, the National Association of Manufacturers and MRFAC, the Association of American Railroads, the American Petroleum Institute, the National Rural Electric Cooperative Association, and the Enterprise Wireless Alliance jointly filed a request for an extension of time to submit comments. They contend that the current comment period does not provide commenters with a sufficient length of time to provide thorough and meaningful responses. They also state that they are conducting discussions with other interested parties in an effort to reach consensus that would allow a consistent filing position in this matter for most of the 900 MHz user communities, and believe that this effort will not be complete before the comment filing deadline. On April 12, 2005, Nextel Communications, Inc. filed an opposition to the comment period extension request, arguing that any delay would adversely impact the Commission's 800 MHz rebanding effort, 69 FR 67823, November 22, 2004, and would delay Nextel's opportunity to obtain, through the auction process, any unused 900 MHz B/ILT spectrum.

Ordering Clauses

4. Pursuant to sections 4(i) and 4(j) of the Communications Act of 1934, as amended, 47 U.S.C. 154(i) and 154(j), and §§ 0.131, 0.331, and 1.46 of the Commission's rules, 47 CFR 0.131, 0.331, and 1.46, the deadline for filing comments in response to the NPRM, published at 70 FR 13143, March 18, 2005, in this proceeding, is extended to May 18, 2005, and the deadline for filing reply comments is extended to June 2, 2005.

Federal Communications Commission.
Katherine M. Harris,
Deputy Chief, Mobility Division.

[FR Doc. 05-8682 Filed 5-3-05; 8:45 am]

BILLING CODE 6712-01-P